DEPARTMENT OF AGRICULTURE

Food Safety and Inspection Service

[Docket No. FSIS-2006-0022]

Codex Alimentarius Commission: Meeting of the Codex Committee on Fish and Fishery Products

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services, are sponsoring a public meeting on September 6, 2006. The objective of the public meeting is to provide information and receive public comments on agenda items and draft United States positions that will be discussed at the 28th Session of the Codex Committee on Fish and Fishery Products (CCFFP) of the Codex Alimentarius Commission (Codex), which will be held in Beijing, China from September 18-22, 2006. The Under Secretary for Food Safety and FDA recognize the importance of providing interested parties with the opportunity to obtain background information on the 28th Session of the CCFFP and to address items on the agenda.

DATES: The public meeting is scheduled for Wednesday, September 6, 2006 from 1 p.m. to 4 p.m.

ADDRESSES: The public meeting will be held in room 3B-047, of the Harvey Wiley Federal Building, 5100 Paint Branch Parkway, College Park, Maryland 20740. Documents related to the 28th Session of the CCFFP will be accessible via the World Wide Web at the following address: http://www.codexalimentarius.net/current.asp.

The Food Safety and Inspection Service (FSIS) invites interested persons to submit comments on this notice. Comments may be submitted by any of the following methods:

Federal eRulemaking Portal: This Web site provides the ability to type short comments directly into the comment field on this Web page or attach a file for lengthier comments. FSIS prefers to receive comments through the Federal eRulemaking Portal. Go to http://www.regulations.gov and, in the “Search for Open Regulations” box, select “Food Safety and Inspection Service” from the agency drop-down menu, then click on “Submit.” In the Docket ID column, select the FDMS Docket Number FSIS-2006-0022 to submit or view public comments and to view supporting and related materials available electronically.

Mail, including floppy disks or CD-ROM's, and hand- or courier-delivered items: Send to Docket Clerk, USDA, FSIS, 300 12th Street, SW., Room 102 Cotton Annex Building, Washington, DC 20250-3700.

Electronic mail: fsis.regulationscomments@fsis.usda.gov.

All submissions received must include the Agency name and docket number FSIS-2006-0022.

All comments submitted in response to this notice, as well as research and background information used by FSIS in developing this document, will be posted to the regulations.gov Web site. The background information and comments also will be available for public inspection in the FSIS Docket Room at the address listed above between 8:30 a.m. and 4:30 p.m., Monday through Friday.

In addition, the U.S. Delegate to the CCFFP, Mr. Philip Spiller of FDA, invites U.S. interested parties to submit their comments electronically to the following e-mail address: melissa.ellwanger@fda.hhs.gov.

Pre-Registration: To gain admittance to this meeting, individuals must present a photo ID for identification and also are required to pre-register. In addition, no cameras or videotaping equipment will be permitted in the meeting room. To pre-register, please send the following information to this e-mail address—melissa.ellwanger@fda.hhs.gov by September 5, 2006:

—Your Name,

—Organization,

—Mailing Address,

—Phone number,

—E-mail address.

FOR FURTHER INFORMATION ABOUT THE 28th SESSION OF THE CCFFP CONTACT: Melissa Ellwanger, Assistant to the U.S. Delegate to the CCFFP, FDA, Center for Food Safety and Applied Nutrition, Harvey W. Wiley Federal Building, 5100 Paint Branch Parkway, College Park, MD 20740-3835; Phone: (301) 436-1401; Fax: (301) 436-2549. E-mail: melissa.ellwanger@fda.hhs.gov.

FOR FURTHER INFORMATION ABOUT THE PUBLIC MEETING CONTACT: Amjad Ali, International Issues Analyst, U.S. Codex Office, FSIS, Room 4861, South Building, 1400 Independence Avenue SW., Washington, DC 20250; Phone: (202) 205-7760; Fax: (202) 720-3157.

SUPPLEMENTARY INFORMATION:

Background

The Codex Alimentarius (Codex) was established in 1963 by two United Nations organizations, the Food and Agriculture Organization and the World Health Organization. Codex is the major international organization for encouraging fair international trade in food and protecting the health and economic interests of consumers. Through adoption of food standards, codes of practice, and other guidelines developed by its committees, and by promoting their adoption and implementation by governments, Codex seeks to protect the health of consumers and ensure fair practices in trade.

The Codex Committee on Fish and Fishery Products was established to elaborate codes, standards and related texts for fish and fishery products. The Committee is hosted by Norway.

Issues To Be Discussed at the Public Meeting

The following items on the Agenda for the 28th Session of the Committee will be discussed during the public meeting:

• Matters referred to the Committee from the other Codex bodies.

• Proposed Draft Amendment to the Standard for Canned Sardine and Sardine Type Products: Clupea bentincki.

• Draft Standard for Sturgeon Caviar.

• Proposed Draft Code of Practice for Fish and Fishery Products (sections 2 Definitions, 7 Live and [Raw] Bivalve Molluscs, 10 Quick Frozen Fish and Fishery Products (sections on Molluscan Shellfish and Coated Shrimp only), 11 Processing of Salted Fish, 12 Processing of Smoked Fish, 13 Processing of Lobsters & Crabs).

• Proposed Draft Standard for Live and Raw Bivalve Molluscs.

• Proposed Draft Standard for Quick Frozen Scallop Adductor Muscle Meat.

• Proposed Draft Standard for Smoked Fish.

• Proposed Draft Code of Practice for the Processing of Scallop Meat.

• Discussion Paper on the Procedure for the Inclusion of Additional Species in Standards for Fish and Fishery Products.

• Discussion Paper on an Amendment to the Labeling Section in the Standard for Canned Sardines and Sardine-Type Products.

Each issue listed will be fully described in documents distributed, or to be distributed, by the Norwegian Secretariat prior to the public meeting on September 6. Members of the public may access or request copies of these documents at http://www.codexalimentarius.net/current.asp.

Public Meeting

At the September 6th public meeting, draft U.S. positions on the agenda items will be described, discussed, and attendees will have the opportunity to pose questions and offer comments. Written comments may be offered at the meeting or sent to the U.S. Delegate for the 28th Session of the CCFFP, Mr. Philip Spiller, at melissa.ellwanger@fda.hhs.gov. Written comments should state that they relate to activities of the 28th Session of the CCFFP.

Additional Public Notification

Public awareness of all segments of rulemaking and policy development is important. Consequently, in an effort to ensure that minorities, women, and persons with disabilities are aware of this notice, FSIS will announce it on-line through the FSIS Web Page located at http://www.fsis.usda.gov/regulations/2006_Notices_Index. FSIS also will make copies of this Federal Register publication available through the FSIS Constituent Update, which is used to provide information regarding FSIS policies, procedures, regulations, Federal Register notices, FSIS public meetings, recalls and other types of information that could affect or would be of interest to constituents and stakeholders. The update is communicated via Listserv, a free electronic mail subscription service for industry, trade and farm groups, consumer interest groups, allied health professionals and other individuals who have asked to be included. The update is available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

Done at Washington, DC on: August 10, 2006.
F. Edward Scarbrough,
U.S. Manager for Codex Alimentarius.

[FR Doc. E6-13361 Filed 8-14-06; 8:45 am]

BILLING CODE 3410-DM-P